NATIONAL SCIENCE FOUNDATION

Sunshine Act Meeting Notice

AGENCY HOLDING MEETING: National Science Foundation, National Science Board.

DATE AND TIME: November 21, 2002: 11 a.m.-11:15 a.m.—Closed Session; November 21, 2002: 11:15 a.m.-11:30 a.m.—Closed Session; November 21, 2002: 12 noon-3:30 p.m. Open Session.

PLACE: The National Science Foundation, Room 1235, 4201 Wilson Boulevard, Arlington, VA 22230, http://www.nsf.gov/nsb.

STATUS: Part of this meeting will be closed to the public. Part of this meeting will be open to the public.

MATTERS TO BE CONSIDERED:

Thursday, November 21, 2002

Executive Closed Session (11 a.m.-11:15 a.m.)

Closed Session Minutes, October, 2002.

Closed Session (11:15 a.m.-11:30 a.m.)

Awards and Agreements.

Open Session (12 Noon-3:30 p.m.)

Science Presentations

—Geosciences

—Mathematical and Physical Sciences

Open Session Minutes, October 2002

Closed Session Items for February 2003

Chairman's Report

Director's Report

Cost Sharing Resolution

Guidelines for Setting Priorities for Major Research Facilities

Infrastructure Task Force Report

NSF Advisory Committee for GPRA Performance Assessment

Committee Report

Other Business

Catherine J. Hines,
Operations Officer.

[FR Doc. 02-29158 Filed 11-13-02; 10:28 am]

BILLING CODE 7555-01-M